EXPORT-IMPORT BANK

[Public Notice 2016-3026]

Agency Information Collection Activities: Comment Request

AGENCY: Export-Import Bank of the U.S.

ACTION: Submission for OMB Review and Comments Request.

Form Title: EIB 92-34, Application for Short-Term Letter of Credit Insurance Policy.

SUMMARY: The Export-Import Bank of the United States (Ex-Im Bank), as part of its continuing effort to reduce paperwork and respondent burden, invites the general public and other Federal Agencies to comment on the proposed information collection, as required by the paperwork Reduction Act of 1995.

By neutralizing the effect of export credit insurance and guarantees offered by foreign governments and by absorbing credit risks that the private section will not accept, Ex-Im Bank enables U.S. exporters to compete fairly in foreign markets on the basis of price and product. This collection of information is necessary, pursuant to 12 U.S.C. 635(a)(1), to determine eligibility of the applicant for Ex-Im Bank support.

This form is used by a financial institution (or broker acting on its behalf) in order to obtain approval for non-honoring coverage of short-term letters of credit. The information received provides Ex-Im Bank staff with the information necessary to make a determination of the eligibility of the applicant and transaction for Ex-Im Bank assistance under its programs.

The application can be viewed at http://www.exim.gov/sites/default/files/pub/pending/eib92-34.pdf.

DATES: Comments should be received on or before December 21, 2016 to be assured of consideration.

ADDRESSES: Comments may be submitted electronically on WWW.REGULATIONS.GOV or by mail to Office of Management and Budget, Office of Information and Regulatory Affairs, 725 17th Street NW., Washington, DC 20038 attn: OMB-3048-0009

SUPPLEMENTARY INFORMATION:

Titles and Form Number: EIB 92-34 Application for Short-Term Letter of Credit Insurance Policy.

OMB Number: 3048-0009.

Type of Review: Regular.

Need and Use: The information collected will provide information needed to determine compliance and creditworthiness for transaction requests submitted to the Export Import Bank.

Affected Public: This form affects entities involved in the export of U.S. goods and services.

Annual Number of Respondents: 48.

Estimated Time per Respondent: 1 hours.

Annual Burden Hours: 48 hours.

Frequency of Reporting or Use: As needed.

Government Expenses:

Reviewing Time per Year: 48 hours.

Average Wages per Hour: $42.50.

Average Cost per Year: $2,040 (time*wages).

Benefits and Overhead: 20%.

Total Government Cost: $2,448.

Bassam Doughman,
Project Manager, Agency Clearance Officer, Office of the Chief Information Officer.

[FR Doc. 2016-27930 Filed 11-18-16; 8:45 am]

BILLING CODE 6690-01-P